DEPARTMENT OF THE INTERIOR

Bureau of Land Management

[LLWY-957400-10-L14200000-BJ0000]

Notice of Filing of Plats of Survey, Wyoming

AGENCY: Bureau of Land Management, Interior.

ACTION: Notice of Filing of Plats of Survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of portions of the Seventh Standard Parallel North through Ranges 108, 109 and 110 West, a portion of the Thirteenth Auxiliary Guide Meridian in Township 29 North, between Ranges 108 and 109 West, portions of the west boundary, and the subdivisional lines, Township 29 North, Range 109 West, Sixth Principal Meridian, Wyoming, Group No. 799, was accepted March 29, 2010.

The plat and field notes representing the dependent resurvey of a portion of the west boundary, a portion of the subdivisional lines, and the subdivision of certain sections, Township 29 North, Range 84 West, Sixth Principal Meridian, Wyoming, Group No. 713, was accepted March 29, 2010.

The plat and field notes representing the dependent resurvey of a portion of the subdivisional lines and the subdivision of section 12, Township 29 North, Range 85 West, Sixth Principal Meridian, Wyoming, Group No. 713, was accepted March 29, 2010.

The plat and field notes representing the dependent resurvey of a portion of the east boundary, a portion of the subdivisional lines, and the subdivision of certain sections, Township 30 North, Range 85 West, Sixth Principal Meridian, Wyoming, Group No. 714, was accepted March 29, 2010.

The supplemental plat showing the corrected Tract number for Tract 52A, Township 41 North, Range 117 West, Sixth Principal Meridian, Wyoming, was accepted March 29, 2010, and is based upon the plat accepted May 13, 2009.

The plat and field notes representing the dependent resurvey of a portion of Tracts 49 and 50, and the metes and bounds survey of Lot 10, Township 47 North, Range 88 West, Sixth Principal Meridian, Wyoming, Group No. 820, was accepted July 27, 2010.

The supplemental plat representing the segregation of Tract 51A from Tract 51 and Tract 54, and Lot 2 and Lot 3 in Section 23, Township 41 North, Range 117 West, Sixth Principal Meridian, Wyoming, Group No. 814, was accepted July 27, 2010.

The plat and field notes representing the dependent resurvey of a portion of the west and north boundaries, and a portion of the subdivisional lines, and the subdivision of certain sections, Township 27 North, Range 83 West, Sixth Principal Meridian, Wyoming, Group No. 725, was accepted July 27, 2010.

The plat and field notes representing the dependent resurvey of a portion of the west boundary, and a portion of the subdivisional lines, and the subdivision of certain sections, Township 28 North, Range 83 West, Sixth Principal Meridian, Wyoming, Group No. 725, was accepted July 27, 2010.

The plat and field notes representing the dependent resurvey of a portion of the subdivisional lines, and the subdivision of certain sections, Township 27 North, Range 84 West, Sixth Principal Meridian, Wyoming, Group No. 725, was accepted July 27, 2010.

The plat and field notes representing the dependent resurvey of a portion of the south boundary, and a portion of the subdivisional lines, and the subdivision of certain sections, Township 28 North, Range 84 West, Sixth Principal Meridian, Wyoming, Group No. 725, was accepted July 27, 2010.

The supplemental plat showing the subdivision of Tract 51-D into new Tracts 51-Q and 51-R, Township 43 North, Range 92 West, Sixth Principal Meridian, Wyoming, Group No. 824, was accepted July 27, 2010 and is based upon a survey performed in May 2006, by Sherman B. Allred, Wyoming Professional Engineer and Land Surveyor, Registration No. 2920.

Copies of the preceding described plats and field notes are available to the public at a cost of $1.10 per page.

Dated: July 28, 2010.
John P. Lee,
Chief Cadastral Surveyor, Division of Support Services.

[FR Doc. 2010-19021 Filed 8-2-10; 8:45 am]

BILLING CODE 4310-22-P